FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
016207N | Admiral Overseas Shipping Company, Inc., 323 S. Swing Road, Greensboro, NC 27409 | January 24, 2009.
003072F | General International Freight Forwarders, Inc., 200 W. Thomas Street, Suite 430, Seattle, WA 98119 | December 26, 2008.
017381N | HPK Logistics (USA) Inc., 727 Brea Canyon Road, Suite 14, Walnut, CA 91789 | January 29, 2009.
004440N | Sunwood International, Inc., 11222 S. LaCienega Blvd., Suite 445, Inglewood, CA 90304 | December 20, 2008.

Sandra L. Kusumoto,
Director, Bureau of Certification and Licensing.

[FR Doc. E9-5856 Filed 3-17-09; 8:45 am]

BILLING CODE 6730-01-P